COMMITTEE FOR THE IMPLEMENTATION OF TEXTILE AGREEMENTS

Adjustment of Import Limits for Certain Cotton, Wool and Man-Made Fiber Textile Products Produced or Manufactured in Cambodia

January 10, 2005.

AGENCY: Committee for the Implementation of Textile Agreements (CITA).

ACTION: Issuing a directive to the Commissioner, Bureau of Customs and Border Protection retroactively increasing 2004 limits by 4%.

EFFECTIVE DATE: January 12, 2005.

FOR FURTHER INFORMATION CONTACT: Naomi Freeman, International Trade Specialist, Office of Textiles and Apparel, U.S. Department of Commerce, (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

In recognition of the continuing efforts of Cambodia to improve working conditions in the textile and apparel sector, including internationally recognized core labor standards, through the application of Cambodian labor law, and in response to the Second Labor Consultation of 2004, the U.S. Government is providing an increase of 4% of the base level quotas retroactively to 2004 adjusted limits. Goods exported on and after January 1, 2005 are not subject to textile and apparel import limits.

In the letter published below, the Chairman of CITA directs the Commissioner, Bureau of Customs and Border Protection to adjust the 2004 limits.

A description of the textile and apparel categories in terms of HTS numbers is available in the CORRELATION: Textile and Apparel Categories with the Harmonized Tariff Schedule of the United States (see Federal Register notice 69 FR 4926, published on February 2, 2004). Also see 68 FR 68597, published on December 9, 2003 and 69 FR 60617, published on October 12, 2004.

Philip J. Martello,
Acting Chairman, Committee for the Implementation of Textile Agreements.

Committee for the Implementation of Textile Agreements

January 10, 2005.

Commissioner,

Bureau of Customs and Border Protection, Washington, DC 20229.

Dear Commissioner: You are directed, effective on January 12, 2005, to increase the restraint limits established in the directive dated December 4, 2003 for textile products in the following categories, produced or manufactured in Cambodia and exported during the twelve-month period which began on January 1, 2004 and extended through December 31, 2004, to reflect the continuing efforts of the Royal Government of Cambodia to improve working conditions in the textile and apparel sector, and in response to the Second Labor Consultation of 2004:

Category | adjusted twelve-month limit ¹
331pt./631pt. ² | 59,451 dozen pairs.
334/634 | 283,264 dozen.
335/635 | 108,217 dozen.
338/339 | 4,453,537 dozen.
340/640 | 1,318,876 dozen.
345 | 137,807 dozen.
347/348/647/648 | 4,767,375 dozen.
352/652 | 1,065,411 dozen.
435 | 26,594 dozen.
438 | 127,771 dozen.
445/446 | 156,164 dozen.
638/639 | 1,631,308 dozen.
645/646 | 351,629 dozen.
¹ The limits have not been adjusted to account for any imports exported after December 31, 2003.
² Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510; Category 631pt.: all HTS numbers except 6116.10.1730, 6116.10.4820, 6116.10.5520, 6116.10.7520, 6116.93.8800, 6116.93.9400, 6116.99.4800, 6116.99.5400 and 6116.99.9530.

The Committee for the Implementation of Textile Agreements has determined that these actions fall within the foreign affairs exception to the rulemaking provisions of 5 U.S.C. 553(a)(1).

Sincerely,
Philip J. Martello,
Acting Chairman, Committee for the Implementation of Textile Agreements.

[FR Doc. 05-720 Filed 1-11-05; 8:45 am]

BILLING CODE 3510-DS